DEPARTMENT OF COMMERCE

National Oceanic and Atmospheric Administration

50 CFR Part 648

[Docket No. 130903775-4276-02]

RIN 0648-XD378

Fisheries of the Northeastern United States; Atlantic Mackerel, Squid, and Butterfish Fisheries; Closure of the 2014 Trimester 2 Directed Longfin Squid Fishery

AGENCY: National Marine Fisheries Service (NMFS), National Oceanic and Atmospheric Administration (NOAA), Commerce.

ACTION: Temporary rule; closure.

SUMMARY: NMFS announces that the 2014 Trimester 2 longfin squid fishery is closed. Vessels issued a commercial Federal moratorium longfin squid permit may not possess or land more than an incidental amount of longfin squid for the remainder of Trimester 2. This action is necessary to prevent the fishery from exceeding its Trimester 2 quota and to allow for effective management of the stock. Regulations governing the longfin squid fishery require publication of this notification to advise permit holders that the fishery is closed.

DATES: Effective 0001 hours, August 11, 2014, through 2400 hours, August 31, 2014.

FOR FURTHER INFORMATION CONTACT: Peter Christopher, Supervisory Fishery Policy Analyst, 978-281-9288, Fax 978-281-9135.

SUPPLEMENTARY INFORMATION: Regulations governing the longfin squid fisheries are found at 50 CFR part 648. The regulations require specifications for maximum sustainable yield, initial optimum yield, allowable biological catch (ABC), domestic annual harvest (DAH), domestic annual processing, joint venture processing, and total allowable levels of foreign fishing for the species managed under the Atlantic Mackerel, Squid, and Butterfish Fishery Management Plan (FMP). The procedures for setting the annual initial specifications are described in § 648.22.

The longfin squid DAH for the 2014 fishing year (FY) is 21,810 mt, and is allocated into three trimesters: Trimester 1 (January 1-April 30) is allocated 43 percent of the quota (9,378 mt); Trimester 2 (May 1-August 31) is allocated 17 percent of the quota (3,708 mt); and Trimester 3 (September 1-December 31) is allocated 40 percent of the quota (8,724 mt) (79 FR 18834, April 4, 2014).

Due to an underharvest of quota in Trimester 1, NMFS adjusted the Trimester 2 quota from the initial quota of 3,708 mt to a new quota of 5,562 mt. Section 648.24 requires NMFS to close the directed longfin squid fishery in the EEZ, and reduce the possession limit for moratorium longfin squid permit holders, when 90 percent of the Trimester 2 quota (5,006 mt) is projected to be harvested. NMFS is required to notify the Executive Directors of the Mid-Atlantic, New England, and South Atlantic Fishery Management Councils; mail notification of the directed closure and subsequent possession limit reduction to all moratorium longfin permit holders at least 72 hr before the effective date of the closure; provide adequate notice of the closure to recreational participants in the fishery; and publish notification of the closure in the Federal Register.

The Administrator, Greater Atlantic Region, NMFS, based on dealer reports and other available information, has determined that 90 percent of the Trimester 2 longfin quota for the 2014 fishing year will be harvested on August 11, 2014. Therefore, effective 0001 hours, August 11, 2014, the Trimester 2 directed longfin fishery is closed and vessels issued Federal moratorium permits for longfin are prohibited from possessing or landing more than 2,500 lb (1,134 kg) of longfin through August 31, 2014. The Trimester 3 longfin fishery will open at 0001 hours, September 1, 2014.

There is one exception for the 2,500 lb (1,134 kg) possession limit: A vessel with a longfin squid/butterfish moratorium permit that is on a directed Illex squid fishing trip (i.e., possesses more than 10,000 lb (4,536 kg) of Illex squid) and is seaward of the coordinates specified at § 648.23(a)(3) may possess up to 15,000 lb (6,804 kg) of longfin squid during the directed longfin squid fishery closure.

Classification

This action is required by 50 CFR part 648, and is exempt from review under Executive Order 12866.

The Assistant Administrator for Fisheries, NOAA, finds good cause pursuant to 5 U.S.C. 553(b)(B) to waive prior notice and the opportunity for public comment because it would be contrary to the public interest. This action closes the directed longfin fishery until September 1, 2014, under current regulations. The regulations at § 648.24 require such action to ensure that longfin vessels do not exceed the 2014 Trimester 2 quota. Data indicating the longfin fleet will have landed at least 90 percent of the 2014 Trimester 2 quota have only recently become available. If implementation of this closure is delayed to solicit prior public comment, the quota for Trimester 2 will be exceeded, thereby undermining the conservation objectives of the FMP.

The Assistant Administrator further finds, pursuant to 5 U.S.C. 553(d)(3), good cause to waive the 30-day delayed effectiveness period for the reasons stated above.

Authority: 16 U.S.C. 1801 et seq.

Dated: August 5, 2014.
Emily H. Menashes,
Acting Director, Office of Sustainable Fisheries, National Marine Fisheries Service.

[FR Doc. 2014-18855 Filed 8-7-14; 8:45 am]

BILLING CODE 3510-22-P